DEPARTMENT OF ENERGY

Federal Energy Regulatory Commission

[Docket Nos. ER12-678-000, ER12-679-000]

Midwest Independent Transmission System Operator, Inc.; Notice of Technical Conference

By order dated March 30, 2012, in Docket Nos. ER12-678-000 and ER12-679-000, the Federal Energy Regulatory Commission (Commission) directed staff to convene a technical conference regarding proposals by the Midwest Independent Transmission System Operator, Inc. (MISO) regarding Revenue Sufficiency Guarantee (RSG) costs associated with resources committed for voltage or local reliability requirements (VLR costs).¹ In Docket No. ER12-678-000, MISO proposed to allocate a greater proportion of VLR costs to the load in the Local Balancing Authority Area benefitted by such commitments. In Docket No. ER12-679-000, MISO proposed a mechanism by which to mitigate the exercise of market power with regard to offers made to address VLR issues. In its order, the Commission accepted and suspended for five months both of MISO's filings, subject to the outcome of the technical conference and further Commission order.

¹ Midwest Independent Transmission System Operator, Inc., 138 FERC ¶ 61,235 at P 49 (2012).

Take notice that such conference will be held on May 15, 2012 at the Commission's headquarters at 888 First Street NE., Washington, DC 20426, beginning at 9 a.m. (EDT) in Room 3M-2A&B. The technical conference will be led by Commission staff.

The purpose of the technical conference is to discuss the issues raised by MISO's proposed VLR cost allocation methodology and mitigation mechanism. A subsequent notice detailing the topics to be discussed will be issued in advance of the conference. Following the conference, the parties will have an opportunity to file written comments that will be included in the formal record of the proceeding, which, together with the record developed to date, will form the basis for further Commission action.

FERC conferences are accessible under section 508 of the Rehabilitation Act of 1973. For accessibility accommodations please send an email to accessibility@ferc.gov or call toll free 1-866-208-3372 (voice) or 202-208-8659 (TTY); or send a fax to 202-208-2106 with the required accommodations.

All parties are permitted to attend. For more information on this conference, please contact Stephen Pointer at stephen.pointer@ferc.gov or 202-502-8761, Adam Pollock at adam.pollock@ferc.gov or 202-502-8458, or Katherine Waldbauer at katherine.waldbauer@ferc.gov or 202-502-8232.

Dated: April 4, 2012.
Kimberly D. Bose,
Secretary.

[FR Doc. 2012-8641 Filed 4-10-12; 8:45 am]

BILLING CODE 6717-01-P